DEPARTMENT OF ENERGY

Federal Energy Regulatory Commission

[Docket No. AD22-14-000]

Commission Information Collection Activities (Proposed FERC-1002); Comment Request

AGENCY: Federal Energy Regulatory Commission.

ACTION: Notice of proposed information collection FERC-1002 (Customer Engagement Management Survey) and request for comments. This notice also terminates proposed FERC-1001 (Hotline and Helpline Survey).

SUMMARY: In compliance with the requirements of the Paperwork Reduction Act of 1995 (PRA), the Federal Energy Regulatory Commission (Commission or FERC) staff is soliciting public comment on proposed FERC-1002 (Customer Engagement Management Survey), which will be submitted to the Office of Management and Budget (OMB) for a review of the information collection requirements. FERC also hereby terminates proposed FERC-1001 (Hotline and Helpline Survey), consistent with the PRA.

The Commission received no comments on the 60-day notice published September 8, 2022 in the Federal Register.

DATES: Comments on the proposed collection of information are due June 22, 2023.

ADDRESSES: Send written comments on proposed FERC-1002 to OMB through www.reginfo.gov/public/do/PRAMain, Attention: Federal Energy Regulatory Commission Desk Officer. Please identify the OMB Control Number 1902-TBD in the subject line. Your comments should be sent within 30 days of publication of this notice in the Federal Register.

Please submit copies of your comments (identified by Docket No. AD22-14-000) to the Commission as noted below. Electronic filing through http://www.ferc.gov is preferred.

• Electronic Filing: Documents must be filed in acceptable native applications and print-to-PDF, but not in scanned or picture format.

• For those unable to file electronically, comments may be filed by USPS mail or by hand (including courier) delivery.

○ Mail via U.S. Postal Service Only, Addressed to: Federal Energy Regulatory Commission, Secretary of the Commission, 888 First Street NE, Washington, DC 20426.

○ Hand (including courier) Delivery to: Federal Energy Regulatory Commission, 12225 Wilkins Avenue, Rockville, MD 20852.

Instructions:

OMB submissions must be formatted and filed in accordance with submission guidelines at www.reginfo.gov/public/do/PRAMain. Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket may subscribe to the docket using eSubscription (https://ferconline.ferc.gov/LogIn.aspx). Users interested in viewing or downloading comments and issuances in this docket may do so using eLibrary (https://elibrary.ferc.gov/eLibrary/search).

FOR FURTHER INFORMATION CONTACT: Melissa Lozano may be reached at Melissa.Lozano@FERC.gov by email or telephone at (202) 502-6267.

SUPPLEMENTARY INFORMATION:

The Commission requested public comment in a 60-day notice ¹ on both the proposed FERC-1001 (Hotline and Helpline Survey) and FERC-1002 (Customer Engagement Management Survey). No comments were received. Comments are no longer being solicited for FERC-1001 (Hotline and Helpline Survey) because the proposal does not constitute a “collection of information” as defined by the PRA.²

¹ 87 FR 54998, September 8, 2022.

² 44 U.S.C. 3502(3)(A)(i) (providing that “collection of information” constitutes answers to identical questions posed to, or identical reporting or recordkeeping requirements imposed on, ten or more persons, other than agencies, instrumentalities, or employees of the United States).

The Commission continues to seek comments on proposed FERC-1002 (Customer Engagement Management Survey), which is described more fully below.

Title: Proposed FERC-1002 (Customer Engagement Management Survey).³

³ The proposed survey will not be published in the Federal Register but will be available as part of this notice in the Commission's eLibrary system.

OMB Control No: 1902-TBD.

Type of Request: Request for proposed new information collection.

Abstract:

The Proposed FERC-1002 is needed to conduct customer engagement activities. Customer engagement is needed to further the Commission's goal of facilitating the public's understanding of FERC's work and encouraging their participation in FERC matters. The data will allow FERC to understand which areas of its work are of greater interest to the public and where additional public outreach and educational materials or other resources are needed the most. To that end, the proposed survey, which is attached to this notice, covers customer engagement activities by FERC's Office of Public Participation (OPP) and Office of External Affairs (OEA).⁴ Specifically, FERC proposes to voluntarily collect contact information ⁵ and information about a participant's subject matter areas of interest, and to keep email distributions to be used to inform interested individuals of workshops, technical conferences, certain proceedings, press releases, or newsletters.⁶

⁴ The original notice also covered work by Electric Quarterly Report administrators, which is no longer being proposed in this notice.

⁵ We will safeguard the information provided in accordance with the Privacy Act of 1974, as amended (5 U.S.C. 552a). FERC-1002 is authorized by 18 CFR 388.104 and is in accordance with SORN FERC-62. SORN FERC-62 is being modified concurrently with this notice and the related PRA submittal to the Office of Management and Budget. If needed, the Privacy section of the Attachment will be updated upon approval by OMB.

⁶ Proposed FERC-1002 covers the following areas of outreach for customer engagement from OPP: https://www.ferc.gov/office-of-public-participation-subscribe and from OEA: https://www.ferc.gov/ferc-insight-newsletter.

In this second notice for proposed FERC-1002 (Customer Engagement Management Survey), FERC proposes fewer survey questions regarding areas of interest from potential subscribers to updates and communications from OPP.

Estimate of Annual Burden: ⁷

⁷ Burden is defined as the total time, effort, or financial resources expended by persons to generate, maintain, retain, or disclose or provide information to or for a Federal agency. For further explanation of what is included in the information collection burden, see 5 CFR 1320.3.

The estimated annual burden charts have been revised from the 60-day notice to exclude estimated burden for FERC-1002 that had been associated with administration of Electric Quarterly Reports,⁸ and to reduce the estimated burden for subscribers of the survey. The following table sets forth the estimated annual burden and cost ⁹ for the FERC-1002:

⁸ Industry burden associated with the Electric Quarterly Report is covered under FERC-920 (OMB Control No. 1902-0255).

⁹ Commission staff believes the FERC average wages plus benefits are a reasonable approximation of the cost for industry and public respondents. Therefore we are using the 2022 FERC average cost for wages plus benefits ($91.00 (rounded) per hour or $188,922 (rounded) per year).

Estimated Annual Burden Hours for Proposed FERC-1002
Engagement/filer type | Annual number of respondents | Annual number of responses per respondent | Total number of responses | Average burden hours per response | Total annual burden hours
| (1) | (2) | (1) × (2) = (3) | (4) | (3) × (4) = (5)
External Affairs Subscriber | 2,000 | 1 | 2,000 | 0.083 | 166
OPP Subscriber | 100 | 1 | 100 | 0.13 | 13
Totals (Rounded) |  |  | 2,100 |  | 179

Estimated Annual Cost for Proposed FERC-1002
Engagement/filer type | Total number of responses | Average burden hours per response | Cost per hour (for wages plus benefits) | Average cost per response | Total annual cost
| (3) | (4) | (6) | (4) × (6) = (7) | (3) × (7) = (8)
External Affairs Subscriber | 2,000 | 0.083 | $91 | $7.55 | $15,100.00
OPP Subscriber | 100 | 0.13 | 91 | 11.83 | 1,183.00
Totals (Rounded) | 2,100 |  |  |  | 16,283.00

Total for Proposed FERC-1002
| Estimated burden (hrs.) | Estimated cost ($)
Estimated Annual Total for Proposed FERC-1002 | 179 | $16,283.00

Comments: Comments are invited on: (1) whether the collection of information is necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

The attachment will not be published in the Federal Register but will be available as part of this notice in the Commission's eLibrary system.

Dated: May 17, 2023.
Kimberly D. Bose,
Secretary.

Attachment

FERC-1002

OMB Control No. 1902-TBD

OMB Expiration Date: nn/nn/nnnn

Proposed FERC-1002, Customer Engagement Management Survey

FERC website currently includes subscribe forms or subscribe buttons in different locations to collect contact information about participants interest in obtaining FERC communications from the Office of External Affairs (such as FERC Insider Newsletter) and from the Office of Public Participation. These existing subscribe forms or buttons will be modified and in some cases expanded to include questions intended to obtain more granular information about a participant's subject matter interests in order for the Commission to provide more targeted outreach.

The instructions and questions in this collection follow.

Instructions

Subscribe for FERC Updates

Want more insight into FERC? Register here for our new newsletter, the FERC insight.

The FERC insight gives you a monthly snapshot of FERC news. You also get updates from Commission meetings and schedules for upcoming conferences/speeches/presentations, and links to Commission orders, notices and new reports.

OEA Customers

First Name (open answer)

Last Name (open answer)

Organization/Affiliation (open answer)

Email (open answer)

Phone (open answer)

Zip Code (open answer)

Instructions

Subscribe to OPP—Web-Button

OPP will use your contact information and areas of interest to target communications to you.

OPP Customers

First Name (open answer)

Last Name (open answer)

Organization/Affiliation (open answer)

Email (open answer)

Phone (open answer)

Zip Code (open answer)

Type of Stakeholder (select all that apply)

Consumer Advocate

Member of Tribal Group

Tribal Government Representative

Academic

Environmental/Energy Justice Community

Grassroots Organization

Governmental Organization

Landowner

Company Representative

Individual

Other (open answer)

Geographies (select all that apply)

RTO/ISO (with dropdown)

State (with dropdown including “all” as an option and each state)

Tribal Nation (open answer)

Other

Industry (select all areas of interest)

Electric Markets (includes technologies and products, RTO/ISO matters, resource adequacy/capacity markets, distributed energy resources, renewable generation resources and/or storage)

Transmission

Natural Gas/LNG

Oil

Hydropower

Other (Please type in FERC related subjects that are of interest to you or what you would like to receive information about.)

Instructions

Where to Send Comments on Public Reporting Burden. The public reporting burden for the FERC-1002 collection of information is estimated to average 0.09 hours per response (rounded), including the time for reviewing instructions, searching existing data sources, gathering and maintaining the data-needed, and completing and reviewing the collection of information. Send comments regarding the burden estimate or any aspect of the collection of information, including suggestions for reducing burden, to the Federal Energy Regulatory Commission, 888 First Street NE, Washington, DC 20426 (Attention: Information Clearance Officer); and to the Office of Information and Regulatory Affairs, Office of Management and Budget, through www.reginfo.gov/public/do/PRAMain, and indicate the FERC-1002 and OMB Control No. (1902-TBD). No person shall be subject to any penalty if any collection of information does not display a valid OMB control number (44 U.S.C. 3512 (a)).

Privacy

When engaging with FERC's program offices, such as the Office of Public Participation (OPP) and Office of External Affairs (OEA), FERC may ask you to provide Personally Identifiable Information (PII), such as your name, email address, affiliation and personal or mobile phone number, for the purpose of ongoing engagement with you. If you choose to provide this PII by registering for a FERC-sponsored workshop, completing a program specific webform, or requesting to be informed regarding a specific subject matter of interest, FERC will use that information to help provide you with information or service you have requested. Providing the PII is voluntary. This PII, if you choose to provide it, may be shared with other federal and state regulators as authorized pursuant to the FERC's published Privacy Act System of Records (SORN) FERC-62, Public Information Request. FERC will safeguard the information you provide to us in accordance with the Privacy Act of 1974, as amended (5 U.S.C. 552a). This collection of information is authorized by 18 CFR 388.104 and is in accordance with SORN FERC-62, Public Information Request, 79 FR 17534 published March 28, 2014 at https://www.federalregister.gov/documents/2014/03/28/2014-06993/privacy-act-of-1974-notice-of-new-or-altered-systems-of-records or here: https://www.govinfo.gov/content/pkg/FR-2014-03-28/pdf/2014-06993.pdf. SORN FERC-62 is currently being modified and the amended notice will be published in the Federal Register as soon as all required concurrences are obtained.

[FR Doc. 2023-10937 Filed 5-22-23; 8:45 am]

BILLING CODE 6717-01-P